DEPARTMENT OF TRANSPORTATION

Federal Aviation Administration

14 CFR Part 39

[Docket No. FAA-2023-1053; Project Identifier AD-2023-00164-T; Amendment 39-22891; AD 2024-24-01]

RIN 2120-AA64

Airworthiness Directives; The Boeing Company Airplanes

AGENCY: Federal Aviation Administration (FAA), DOT.

ACTION: Final rule.

SUMMARY: The FAA is adopting a new airworthiness directive (AD) for certain The Boeing Company Model 757-200, -200CB, and -200PF series airplanes. This AD was prompted by a crack growth analysis, which indicated that current inspections are not adequate to detect cracks in certain sections of the upper frame at the frame splice between certain stringers before a single frame fails. This AD requires an inspection or records review for existing repairs, repetitive inspections for cracks of the upper frame at the frame splices between certain stringers in certain sections, and applicable on-condition actions. The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2023-1053, or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2023-1053.

FOR FURTHER INFORMATION CONTACT: Wayne Ha, Aviation Safety Engineer, FAA, 2200 South 216th Street, Des Moines, WA 98198; phone: 562-627-5238; email: wayne.ha@faa.gov.

SUPPLEMENTARY INFORMATION:

Background

The FAA issued a notice of proposed rulemaking (NPRM) to amend 14 CFR part 39 by adding an AD that would apply to certain The Boeing Company Model 757-200, -200CB, and -200PF series airplanes. The NPRM published in the Federal Register on July 24, 2023 (88 FR 47402). The NPRM was prompted by a crack growth analysis, which indicated that current inspections are not adequate to detect cracks in certain sections of the upper frame at the frame splice between certain stringers before a single frame fails. In the NPRM, the FAA proposed to require an inspection or records review for existing repairs, repetitive inspections for cracks of the upper frame at the frame splices between certain stringers in certain sections, and applicable on-condition actions.

The FAA issued a supplemental notice of proposed rulemaking (SNPRM) to amend 14 CFR part 39 by adding an AD that would apply to certain The Boeing Company Model 757-200, -200CB, and -200PF series airplanes. The SNPRM published in the Federal Register on April 22, 2024 (89 FR 29274). The SNPRM was prompted by a determination that the repetitive inspection intervals for airplanes that were modified by Aviation Partners Boeing (APB) supplemental type certificate (STC) ST01518SE needed to be revised. The SNPRM proposed to require the actions specified in the NPRM, with certain revised compliance times.

The FAA is issuing this AD to address cracking at the upper frames common to the splice at stringers S-13 to S-14, which could interact with fuselage skin cracking at the stringer S-14 lap splice. This unsafe condition, if not addressed, could result in the inability of a principal structural element to sustain limit loads, and could adversely affect the structural integrity of the airplane.

Discussion of Final Airworthiness Directive

Comments

The FAA received a comment from Boeing who supported the SNPRM without change.

The FAA received additional comments from FedEx Express, United Airlines (United), and European Air Transport Leipzig GmbH (EATL). The following presents the comments received on the SNPRM and the FAA's response to each comment.

Request To Use Different Figures

FedEx Express noted that its 757 fleet has been modified by VT MAE STC ST03562AT, passenger-to-freighter modification for Model 757-200 series airplanes, which adds a main deck cargo door to the airplane. After consultation with the STC holder, FedEx Express requested modifications for Groups 1, 2, and 3 of Boeing Alert Requirements Bulletin 757-53A0115, dated January 25, 2022, for airplanes modified by VT MAE STC ST03562AT. FedEx Express requested using the different figures from the requirements bulletin for the factory freighter airplanes along with shorter repeat intervals associated with those figures. FedEx Express stated that all other figures along with the method of inspections called out in the requirements bulletin will be complied with according to their respective effectivity.

The FAA finds no justification for airplanes modified by VT MAE STC ST03562AT to utilize the inspections, methods, and intervals in Groups 1, 2, and 3 of Boeing Alert Requirements Bulletin 757-53A0115, dated January 25, 2022. FedEx did not provide sufficient justification and data for airplanes modified by VT MAE STC ST03562AT to support a revision to this AD. Operators must request approval of an alternative method of compliance (AMOC) for airplanes modified by VT MAE STC ST03562AT to address the unsafe condition of this AD and comply with its requirements. For those airplanes, the FAA has added paragraph (h)(4) of this AD to provide an exception to the actions specified in Boeing Alert Requirements Bulletin 757-53A0115, dated January 25, 2022.

Comment Regarding Compliance Time

United stated that the proposed requirement to divide the applicable compliance times and repeat intervals specified in Boeing Alert Requirements Bulletin 757-53A0115, dated January 25, 2022, by a factor of two is excessive and could create an undue burden on the operators. United added that the FAA did not provide details regarding how it determined requiring a reduction in compliance by a factor of two. United understood that a reduction is necessary because APB does not yet have an approved service bulletin to provide its compliance requirements. However, United believed the reduction required by APB will likely show a factor of two is not an accurate determination.

EATL stated the proposed exception in paragraph (h)(3) of the proposed AD includes strong penalties for airplanes equipped with winglets, as modified by APB STC ST01518SE. EATL noted Boeing and APB usually work closely together to align impacts generated by installation of winglets, which is then included in the compliance tables of the requirements bulletin. EATL added that Boeing Alert Requirements Bulletin 757-53A0115, dated January 25, 2022, does not include such penalties or any indication that installation of winglets affects the compliance times.

EATL stated the proposed exception in paragraph (h)(3) of the proposed AD would prevent airplanes equipped with winglets, as modified by APB STC ST01518SE, from scheduling the inspections required by this AD during base maintenance events. EATL requested that the FAA re-evaluate halving the applicable compliance times and repeat intervals specified in Boeing Alert Requirements Bulletin 757-53A0115, dated January 25, 2022.

The FAA stated the reduction in compliance by a factor of two is to allow for APB to complete its evaluation of airplanes with APB STC ST01518SE installed. The FAA determined this is a conservative and appropriate compliance time for this AD. No changes have been made to this AD in this regard.

Conclusion

The FAA reviewed the relevant data, considered any comments received, and determined that air safety requires adopting this AD as proposed. Accordingly, the FAA is issuing this AD to address the unsafe condition on these products. Except for minor editorial changes, and any other changes described previously, this AD is adopted as proposed in the SNPRM. None of the changes will increase the economic burden on any operator.

Material Incorporated by Reference Under 1 CFR Part 51

The FAA reviewed Boeing Alert Requirements Bulletin 757-53A0115 RB, dated January 25, 2022. This material specifies procedures for a general visual inspection (GVI) or records review between stringers S-13 and S-14 in Sections 43 and 46 for existing repairs. This material also describes procedures, depending on the configuration, for repetitive high frequency eddy current (HFEC) and low frequency eddy current (LFEC) inspections for cracking of the upper frames and splice doublers at the frame splices between stringers S-13 and S-14, left- and right-hand sides, in Sections 43 and 46; and applicable on-condition actions. On-condition actions include repair.

This material is reasonably available because the interested parties have access to it through their normal course of business or by the means identified in the ADDRESSES section.

Costs of Compliance

The FAA estimates that this AD affects 456 airplanes of U.S. registry. The FAA estimates the following costs to comply with this AD:

Estimated Costs
Action | Labor cost | Parts cost | Cost per product | Cost on U.S. operators
GVI | 2 work-hours × $85 per hour = $170 per inspection cycle | $0 | $170 per inspection cycle | $77,520 per inspection cycle.
Repetitive Inspections | Up to 267 work-hours × $85 per hour = Up to $22,695 per inspection cycle | 0 | Up to $22,695 per inspection cycle | Up to $10,348,920 per inspection cycle.

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-24-01 The Boeing Company: Amendment 39-22891; Docket No. FAA-2023-1053; Project Identifier AD-2023-00164-T.

(a) Effective Date

This airworthiness directive (AD) is effective January 13, 2025.

(b) Affected ADs

None.

(c) Applicability

This AD applies to The Boeing Company Model 757-200, -200CB, and -200PF series airplanes, certificated in any category, as identified in Boeing Alert Requirements Bulletin 757-53A0115 RB, dated January 25, 2022.

(d) Subject

Air Transport Association (ATA) of America Code 53, Fuselage.

(e) Unsafe Condition

This AD was prompted by a crack growth analysis, which indicated that current inspections are not adequate to detect cracks in the Sections 43 and 46 upper frame at the frame splice between stringers S-13 and S-14 before a single frame fails. The FAA is issuing this AD to address cracking at the upper frames common to the splice at stringers S-13 to S-14, which could interact with fuselage skin cracking at the stringer S-14 lap splice. The unsafe condition, if not addressed, could result in the inability of a principal structural element to sustain limit loads, and could adversely affect the structural integrity of the airplane.

(f) Compliance

Comply with this AD within the compliance times specified, unless already done.

(g) Required Actions

Except as specified by paragraph (h) of this AD: At the applicable times specified in the “Compliance” paragraph of Boeing Alert Requirements Bulletin 757-53A0115 RB, dated January 25, 2022, do all applicable actions identified in, and in accordance with, the Accomplishment Instructions of Boeing Alert Requirements Bulletin 757-53A0115 RB, dated January 25, 2022.

Note 1 to paragraph (g): Guidance for accomplishing the actions required by this AD can be found in Boeing Alert Service Bulletin 757-53A0115, dated January 25, 2022, which is referred to in Boeing Alert Requirements Bulletin 757-53A0115 RB, dated January 25, 2022.

(h) Exceptions to Service Information Specifications

(1) Where the Compliance Time columns of the tables in the “Compliance” paragraph of Boeing Alert Requirements Bulletin 757-53A0115 RB, dated January 25, 2022, use the phrase “the original issue date of Requirements Bulletin 757-53A0115 RB,” this AD requires using the effective date of this AD.

(2) Where Boeing Alert Requirements Bulletin 757-53A0115 RB, dated January 25, 2022, specifies contacting Boeing for repair instructions or for alternative inspections: This AD requires doing the repair and doing the alternative inspections and applicable on-condition actions using a method approved in accordance with the procedures specified in paragraph (i) of this AD.

(3) For airplanes on which winglet structural provisions (original equipment manufacturer (OEM) wingtips) or Aviation Partners Boeing (APB) winglets have been installed in accordance with APB Supplemental Type Certificate (STC) ST01518SE: This AD requires dividing the applicable compliance times and repeat intervals specified in the “Compliance” paragraph of Boeing Requirements Bulletin 757-53A0115 RB, dated January 25, 2022, by a factor of two.

(4) For airplanes modified by VT MAE STC ST03562AT: Where paragraph (g) of this AD requires doing “all applicable actions identified in, and in accordance with, the Accomplishment Instructions of Boeing Alert Requirements Bulletin 757-53A0115 RB, dated January 25, 2022,” this AD requires obtaining inspection instructions and applicable repair instructions in accordance with the procedures specified in paragraph (i) of this AD at the later of the compliance times specified in paragraphs (h)(4)(i) and (ii) of this AD. Comply with all applicable instructions at the time specified in the instructions.

(i) Before 50,000 total flight cycles.

(ii) Within 2,500 flight cycles after the effective date of this AD.

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, to make those findings. To be approved, the repair method, modification deviation, or alteration deviation must meet the certification basis of the airplane, and the approval must specifically refer to this AD.

(j) Related Information

(1) For more information about this AD, contact Wayne Ha, Aviation Safety Engineer, Continued Operational Safety Branch, FAA, 2200 South 216th Street, Des Moines, WA 98198; phone: 562-627-5238; email: wayne.ha@faa.gov.

(2) Service information identified in this AD that is not incorporated by reference is available at the address specified in paragraph (k)(3) of this AD.

(k) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin 757-53A0115 RB, dated January 25, 2022.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 19, 2024.
Peter A. White,
Deputy Director, Integrated Certificate Management Division, Aircraft Certification Service.

[FR Doc. 2024-28782 Filed 12-6-24; 8:45 am]

BILLING CODE 4910-13-P